NATIONAL TRANSPORTATION SAFETY BOARD

Sunshine Act Meetings

TIME AND DATE: 9:30 a.m. EST, April 15, 2025

PLACE: NTSB Conference Center, 429 L'Enfant Plaza SW, Washington, DC 20594.

STATUS: The one item is open to the public.

MATTERS TO BE CONSIDERED:

74011 Marine Investigation Report—Fire aboard Roll-on/Roll-off Container Vessel Grande Costa D'Avorio, Newark, NJ, July 5, 2023

CONTACT PERSON FOR MORE INFORMATION: Candi Bing at (202) 590-8384 or by email at bingc@ntsb.gov.

Media Information Contact: Jennifer Gabris by email at Jennifer.Gabris@ntsb.gov or at (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: Friday, March 21, 2025.
LaSean R. McCray,
Alternate Federal Register Liaison Officer.

[FR Doc. 2025-05135 Filed 3-21-25; 4:15 pm]

BILLING CODE 7533-01-P